DEPARTMENT OF ENERGY

Federal Energy Regulatory Commission

[Project No. 13011-002]

Shelbyville Hydro LLC; Notice of Intent To File License Application and Approving Use of the Traditional Licensing Process

April 27, 2010.

a. Type of Filing: Notice of Intent to File License Application and Request to Use the Traditional Licensing Process.

b. Project No.: 13011-002.

c. Dated Filed: March 8, 2010.

d. Submitted By: Shelbyville Hydro LLC.

e. Name of Project: Lake Shelbyville Dam Hydroelectric Project.

f. Location: At the Corps of Engineers' Lake Shelbyville dam on the Kaskaskia River in Shelby County, Illinois.

g. Filed Pursuant to: 18 CFR 5.3 of the Commission's regulations.

h. Applicant Contact: Brent Smith, COO, Symbiotics, LLC, P.O. Box 535, Rigby, Idaho 83442 at (208) 745-0834 or e-mail at brent.smith@symbioticsenergy.com or Corrine Servis, at (208) 745-0834 or e-mail corrine.servis@symbioticsenergy.com.

i. FERC Contact: John Baummer, John.Baummer@ferc.gov, (202) 502-6837.

j. Shelbyville Hydro LLC filed its request to use the Traditional Licensing Process on March 8, 2010. In a letter dated April 23, 2010, the Director of the Division of Hydropower Licensing approved Shelbyville Hydro's request to use the Traditional Licensing Process.

k. With this notice, we are initiating informal consultation with: (a) The U.S. Fish and Wildlife Service and NOAA Fisheries under section 7 of the Endangered Species Act and the joint agency regulations thereunder at 50 CFR part 402; (b) NOAA Fisheries under section 305(b) of the Magnuson-Stevens Fishery Conservation and Management Act and implementing regulations at 50 CFR 600.920; and (c) the Illinois State Historic Preservation Officer, as required by Section 106, National Historical Preservation Act, and the implementing regulations of the Advisory Council on Historic Preservation at 36 CFR 800.2.

l. With this notice, we are designating Shelbyville Hydro as the Commission's non-Federal representative for carrying out informal consultation, pursuant to Section 7 of the Endangered Species Act, Section 305 of the Magnuson-Stevens Fishery Conservation and Management Act, and Section 106 of the National Historic Preservation Act.

m. Shelbyville Hydro filed a Pre-Application Document (PAD; including a proposed process plan and schedule) with the Commission on September 8, 2009, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

o. Register online at http://www.ferc.gov/docs-filing/esubscription.asp to be notified via e-mail of new filing and issuances related to this or other pending projects. For assistance, contact FERC Online Support.

Kimberly D. Bose,
Secretary.

[FR Doc. 2010-10354 Filed 5-3-10; 8:45 am]

BILLING CODE 6717-01-P